DEPARTMENT OF COMMERCE

International Trade Administration

Export Trade Certificate of Review

ACTION: Notice of Issuance of an Amended Export Trade Certificate of Review, Application No. 87-16A04.

SUMMARY: The Department of Commerce has issued an amendment to the Export Trade Certificate of Review granted originally to The Association for Manufacturing Technology (“AMT”) on May 19, 1987. Notice of issuance of the Certificate was published in the Federal Register on May 22, 1987 (52 FR 19371).

FOR FURTHER INFORMATION CONTACT: Vanessa M. Bachman, Acting Director, Office of Export Trading Company Affairs, International Trade Administration, at telephone (202) 482-5131 (this is not a toll-free number) or by e-mail at oetca@ita.doc.gov.

SUPPLEMENTARY INFORMATION: Title III of the Export Trading Company Act of 1982 (15 U.S.C. 4001 et seq.) authorizes the Secretary of Commerce to issue Export Trade Certificates of Review. The regulations implementing Title III are found at 15 CFR part 325 (2001).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 87-00004, was issued to The Association for Manufacturing Technology on May 19, 1987 (52 FR 19371, May 22, 1987) and last amended on March 6, 2001 (66 FR 15841, March 21, 2001).

AMT's Export Trade Certificate of Review has been amended to:

1. Add each of the following companies as a new “Member” of the Certificate within the meaning of section 325.2(1) of the Regulations (15 CFR 325.2(1)): The Beckwood Press Company, Fenton, Missouri; Ultra Tech Machinery, Inc., Cuyahoga Falls, Ohio; ATS Michigan, Brighton, Michigan; ATS Southwest, Tucson, Arizona; ATS Carolina, Rock Hill, South Carolina; Advanced Machine & Engineering Co., Rockford, Illinois; The Gem City Engineering Company, Dayton, Ohio; ATS Systems Oregon Inc., Corvallis, Oregon; and DeVlieg Bullard II, Inc., Machesney Park, Illinois.

2. Delete the following companies as “Members” of the Certificate: American Pfauter Limited Partnership; Anorad Corporation; Automatic Design Concepts; Belden Inc.; Benchmaster Products, Inc.; Boston Digital Corporation; Buffalo Machine Tools of Niagara, Inc.; Clearing Niagara; Columbus McKinnon for the activities of its CM Positech Division; D&H Machinery, Inc.; Davenport Machine—A Dover Industries Company; Elox Corporation; Esterline Technologies; GEC Alsthom Cyril Bath Company; Harper Surface Finishing System, Inc.; Hayes-Lemmerz Process Control Automation, Inc.; Jesse Engineering Co.; Jewett Automation; Lumonics Corporation; MG Industries; Machine Tool Research, Inc.; MHI Machine Tool USA, Inc.; New Monarch Machine Tool Company; Olofsson Corporation; O.S. Walker Company, Inc.; PMC Industries; P.R. Hoffman Machine Products; Pacific Roller Die Co., Inc.; Parker-Majestic Inc.; The Producto Machine Company; RD & D Corporation; Rendas Tool & Die, Inc.; R. Howard Strasbaugh, Inc.; Teledyne; Themac, Inc.; Tree Machine Tool Co., Inc.; Tyler Machinery Co.; U.S. Amada, Ltd.; Unison Corporation; Utilase Systems, Inc.; Vermont—USA Machine Tool Group; Versa-Mil Inc./Phillips Corporation; Weldun Flexible Assembly Company; W.J. Savage Company, Inc.; and Wisconsin Automated Machinery, and

3. Change the listing of two existing Members as follows: “Kleer-Flo Industries” to “Kleer-Flo Company” and “LeBlond Makino Machine Tool Company” to “Makino Inc.”

A copy of the amended certificate will be kept in the International Trade Administration's Freedom of Information Records Inspection Facility, Room 4102, U.S. Department of Commerce, 14th Street and Constitution Avenue, NW, Washington, DC 20230.

Dated: March 13, 2002.
Vanessa M. Bachman,
Acting Director, Office of Export Trading Company Affairs.

[FR Doc. 02-6507 Filed 3-18-02; 8:45 am]

BILLING CODE 3510-DR-P